FEDERAL COMMUNICATIONS COMMISSION

47 CFR Part 25

[IB Docket 99-81; CC Docket No. 92-166; DA 02-1582]

Policies and Service Rules for the Mobile Satellite Service in the 2 GHz Band; Amendment of the Commission's Rules To Establish a Mobile Satellite Service in the 1610-1626.5/2483.5-2500 MHz Band; Correction

AGENCY: Federal Communications Commission.

ACTION: Correcting amendments.

SUMMARY: This document contains corrections to the final regulations that were published in the Federal Register of 59 FR 53294 and 65 FR 59140. These corrections revise the text and title of two rules in part 25 of the Commission's rules pertaining to the 1.6/2.4 GHz and 2 GHz mobile-satellite service (MSS). These revisions correct inadvertent omissions in those rules as currently published in the Code of Federal Regulations.

DATES: Effective July 16, 2002.

FOR FURTHER INFORMATION CONTACT: Stephen J. Duall, Attorney Advisor, Satellite Division, International Bureau, telephone (202) 418-1103.

SUPPLEMENTARY INFORMATION:

Summary of Order

This document corrects two inadvertent omissions relating to the rules governing the Mobile-Satellite Service (MSS) in the 1.6/2.4 GHz and 2 GHz bands. These corrections conform the Commission's published rules to the texts of the final rule documents in which the rules were adopted.

First, § 25.136(a) of the Commission's rules is corrected to include aircraft cockpit communications in addition to aircraft Cabin Communications. In the Big LEO Order, the Commission adopted several modifications of the Commission's rules, including clarifying that the provisions of § 25.136(a) include cockpit communications as well as aircraft Cabin Communications systems. See 59 FR 53294. This modification to § 25.136(a), although specifically ordered in the text of the Big LEO Order, was inadvertently omitted in the amended rules published in the Federal Register and sent for inclusion in the Code of Federal Regulations. The Commission subsequently amended § 25.136(a) to govern also earth station networks in the 2 GHz MSS band. See 65 FR 59140. In doing so, the failure to modify § 25.136(a) as ordered in the Big LEO Order was inadvertently carried over to the 2 GHz MSS Order. This error is now corrected by revising § 25.136(a) to include aircraft cockpit communications as well as aircraft Cabin Communications, as originally ordered in the text of the Big LEO Order.

Second, the title of § 25.143 of the Commission's rules is corrected to include 2 GHz MSS systems in addition to 1.6/2.4 GHz MSS systems. The Commission ordered 2 GHz MSS systems to comply with § 25.143 as part of the 2 GHz MSS Order and amended § 25.143 to reflect this fact. These amendments were included in the final rules that were adopted in the 2 GHz MSS Order and published in the Federal Register. See 65 FR 59143. Although § 25.143 included 2 GHz MSS systems in the title when published in the 2 GHz MSS Order and the Federal Register, the ordering language in the Federal Register inadvertently failed to include the necessary instructions to amend the title of § 25.143 to include 2 GHz MSS systems. See id. This omission is corrected by revising the title of § 25.143 to include 2 GHz MSS systems in addition to 1.6/2.4 GHz MSS systems.

Ordering Clause

Pursuant to § 0.261 of the Commission's rules, 47 CFR 0.261, §§ 25.136(a) and 25.143 of the Commission's rules, 47 CFR 25.136(a) and 25.143, are corrected as set forth further.

List of Subjects in 47 CFR Part 25

Reporting and recordkeeping requirements, Satellites.

Federal Communications Commission.
Marlene H. Dortch,
Secretary.

Accordingly, 47 CFR part 25 is corrected by making the following correcting amendments:

PART 25—SATELLITE COMMUNICATIONS

1. The authority citation for part 25 continues to read as follows:

Authority: 47 U.S.C. 701-744. Interprets or applies sec. 4, 301, 302, 303, 307, 309 and 332 of the Communications Act, as amended, 47 U.S.C. 154, 301, 302, 303, 307, 309 and 332, unless otherwise noted.

2. Revise paragraph (a) of § 25.136 to read as follows:

§ 25.136 Operating provisions for earth station networks in the 1.6/2.4 GHz mobile-satellite service and 2 GHz mobile-satellite service.

* * * * *

(a) User transceiver units associated with the 1.6/2.4 GHz Mobile-Satellite Service or 2 GHz Mobile-Satellite Service may not be operated on civil aircraft unless the earth station has a direct physical connection to the aircraft cabin or cockpit communication system.

* * * * *

3. Revise the heading of § 25.143 to read as follows:

§ 25.143 Licensing provisions for the 1.6/2.4 GHz mobile-satellite service and 2 GHz mobile-satellite service.

* * * * *

[FR Doc. 02-17828 Filed 7-15-02; 8:45 am]

BILLING CODE 6712-01-P